DEPARTMENT OF HEALTH AND HUMAN SERVICES

Centers for Disease Control and Prevention

Board of Scientific Counselors, National Center for Injury Prevention and Control (BSC, NCIPC)

In accordance with section 10(a)(2) of the Federal Advisory Committee Act (Pub. L. 92-463), the Centers for Disease Control and Prevention (CDC) announces the following meeting of the aforementioned committee:

Time and Date: 8:30 a.m.—11:45 a.m., May 28, 2009 (Open), 1 p.m.-4:30 p.m., May 28, 2009 (Closed).

Place: CDC, 1825 Century Blvd., First Floor, Rooms 1A and 1B, Atlanta, Georgia 30345.

Status: Portions of the meetings will be closed to the public in accordance with provisions set forth in section 552b(c)(4) and (6), Title 5, U.S.C., and the determination of the Director, Management Analysis and Services Office, CDC, pursuant to section 10(d) of Public Law 92-463.

Purpose: The board makes recommendations regarding policies, strategies, objectives, and priorities, and reviews progress toward injury prevention goals and provides evidence in injury prevention-related research and programs. The board provides advice on the appropriate balance of intramural and extramural research, and provides advice on the structure, progress and performance of intramural programs. The Board of Scientific Counselors is also designed to provide guidance on extramural scientific program matters, including the: (1) Review of extramural research concepts for funding opportunity announcements; (2) conduct of Secondary Peer Review of extramural research grants, cooperative agreements, and contracts applications received in response to the funding opportunity announcements as it relates to the Center's programmatic balance and mission; (3) submission of secondary review recommendations to the Center Director of applications to be considered for funding support; (4) review of research portfolios, and (5) review of program proposals. The board shall provide guidance on the National Center of Injury Prevention and Control's programs and research activities by conducting scientific peer review of intramural research and programs within the National Center for Injury Prevention and Control; by ensuring adherence to Office of Management and Budget requirements for intramural peer review; and by monitoring the overall direction, focus, and success of the National Center for Injury Prevention and Control.

Matters To Be Discussed: The Board of Scientific Counselors at this meeting will conduct the Secondary Peer Review of extramural research grant and cooperative agreement applications received in response to the funding opportunity announcements as it relates to the Center's programmatic balance and mission and make secondary review recommendations to the Center Director of applications to be considered for funding support. Applications for the following FOAs will be discussed and voted upon: (1) RFA-CE-09-005, Research Priorities in Acute Injury Care (RO1); (2) RFA-CE-09-007 Research Grants for Preventing Violence and Violence-Related Injury (RO1); (3) RFA-CE-09-004, Unintentional Poisoning from Drug Overdoses in Adults (R21); (4) RFA-CE-09-002, Adaptations of Evidence-Based Parenting Programs to Engage Fathers in Maltreatment Prevention (UO1); (5) RFA-CE-09-008, Identifying Neighborhood Level Protective and Promotive Factors for Youth Violence (UO1);(6) RFA-CE-09-009, Youth Violence Prevention through Economic, Environmental, and Policy Change (UO1); (7) RFA-CE-09-003, Preventing Sexual Violence Perpetration: Targeting Modifiable Risk Factors (UO1); and (8) PA08-050, Small Business Innovative Research. Agenda items are subject to change as priorities dictate.

Contact Person for More Information: Gwendolyn Cattledge, Ph.D., MSEH, Executive Secretary, NCIPC, CDC, 4770 Buford Highway, NE., Mailstop F-63, Atlanta, Georgia 30341, Telephone: (770) 488-1430. The Director, Management Analysis and Services Office, has been delegated the authority to sign Federal Register notices pertaining to announcements of meetings and other committee management activities, for both CDC and the Agency for Toxic Substances and Disease Registry.

Dated: May 5, 2009.
Elaine L. Baker,
Director, Management Analysis and Services Office, Centers for Disease Control and Prevention.

[FR Doc. E9-11027 Filed 5-11-09; 8:45 am]

BILLING CODE 4163-18-P